Proclamation 10668 of October 31, 2023

National Veterans and Military Families Month, 2023

By the President of the United States of America

A Proclamation

The poet John Milton once wrote, “They also serve who only stand and wait.” During National Veterans and Military Families Month, we recognize that our military and veteran families answer our Nation's call to duty, and we recommit to doing right by their service and sacrifice.

For me, the First Lady, and the entire Biden family: It is personal. When our son Beau was deployed to Iraq, we learned what it meant to pray every day for the safe return of someone you love. Our grandkids learned what it meant to have their dad overseas in a warzone instead of at home, tucking them into bed and reading them a story every night. Millions of Americans have had that experience. To all the mothers and fathers, sisters and brothers, sons and daughters, spouses and partners, and loved ones who stand alongside our veterans and service members: You are the solid steel spine that bears up under every burden and the courageous heart that rises to every challenge.

Our Nation has only one truly sacred obligation—to prepare those we send into harm's way and care for them and their families while they are deployed and when they return home. Since the beginning of my Administration, fulfilling that obligation has been my top priority. In June, I signed an Executive Order that establishes the most comprehensive set of administrative actions in our Nation's history to support the economic security of military and veteran spouses, caregivers, and survivors. It encourages all Federal agencies to do more to retain military spouses through flexible policies, improves the ability for spouses to maintain their employment when moving overseas, allows spouses to seek advice on overseas employment issues through military legal assistance offices for the first time, and improves spouses' access to quality, dependable, and affordable child care.

Since the beginning of my Administration, I have signed more than 30 bipartisan bills to expand the services and benefits that support our veterans and their families, caregivers, and survivors—including the Sergeant First Class Heath Robinson Honoring our Promise to Address Comprehensive Toxics (PACT) Act, the most significant expansion of benefits and services for toxin exposed veterans and survivors in over 30 years. We released a national strategy to reduce military and veteran suicide by tackling some of the root causes of this crisis—like addressing financial insecurity by expanding job training opportunities for transitioning service members and veterans and their spouses and increasing funding to prevent and eliminate homelessness. Further, I signed an Executive Order that implemented historic, bipartisan military justice reforms to transform how the military handles sexual assault and domestic violence cases in order to make our military safer and more just. Earlier this year, I directed the Department of Defense to review pay and benefits for our military members, because our Armed Forces and their families deserve a 21st century compensation system that reflects their service and sacrifice. Additionally, the First Lady's Joining Forces initiative is providing support to military and veteran families, caregivers, and survivors by improving economic opportunity for military families, making school transitions easier for military children, and expanding resources to promote health and well-being for this community.

Our fighting force is the greatest in the world—in no small part because, year after year and decade after decade, military and veteran families have had their loved ones' backs. As a country, we owe it to these families to have their backs. This year—as we celebrate 50 years of an all-volunteer force—may we also recognize the bravery and dedication of our military and veteran families and work to repay the debt of gratitude we owe each one of them.

NOW, THEREFORE, I, JOSEPH R. BIDEN JR., President of the United States of America, by virtue of the authority vested in me by the Constitution and the laws of the United States, do hereby proclaim November 2023 as National Veterans and Military Families Month. I call upon the people of the United States to honor veterans and military families with appropriate ceremonies and activities.

IN WITNESS WHEREOF, I have hereunto set my hand this thirty-first day of October, in the year of our Lord two thousand twenty-three, and of the Independence of the United States of America the two hundred and forty-eighth.

[FR Doc. 2023-24503

Filed 11-2-23; 8:45 am]

Billing code 3395-F4-P